DEPARTMENT OF DEFENSE

Department of the Navy

[USN-2007-0001]

Privacy Act of 1974; System of Records

AGENCY: Department of the Navy, DoD.

ACTION: Notice to alter a system of records.

SUMMARY: The Department of the Navy proposes to alter a system of records notice in its existing inventory of records systems subject to the Privacy Act of 1974, (5 U.S.C. 552a), as amended.

DATES: This proposed action will be effective without further notice on February 8, 2007 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's systems of records notices subject to the Privacy Act of 1974, (5 U.S.C. 552a), as amended, have been published in the Federal Register and are available from the address above.

The proposed system reports, as required by 5 U.S.C. 552a(r), of the Privacy Act of 1974, as amended, were submitted on December 13, 2006, to the House Committee on Government Reform, the Senate Committee on Homeland Security and Governmental Affairs, and the Office of Management and Budget (OMB) pursuant to paragraph 4c of Appendix I to OMB Circular No. A-130, Federal Agency Responsibilities for Maintaining Records About Individuals,' dated February 8, 1996 (February 20, 1996, 61 FR 6427).

Dated: January 3, 2007.
C.R. Choate,
Alternate OSD Federal Register Liaison Officer, Department of Defense.

N05580-1

System name:

Security Incident System (January 8, 2001, 66 FR 1328)

Changes:

System identifier:

Change “N05580-1” to “NM05580-1”.

* * * * *

System location:

Delete entry and replace with “Organizational elements of the Department of the Navy. Official mailing addresses are published in the Standard Navy Distribution List (SNDL) that is available at http://doni.daps.dla.mil/default.aspx.

Commander, U.S. Joint Forces Command, 1562 Mitscher Avenue, Suite 200, Norfolk, VA 23551-2488.

Commander, U.S. Pacific Command, P.O. Box 64028, Camp H.M. Smith, HI 96861-4028.”

* * * * *

Categories of records in the system:

Delete entry and replace with “Incident/complaint reports; data sheets that contain information on victims and perpetrators; military magistrate's records; confinement records; traffic accident and violation records; traffic court file; citations to appear before U.S. Magistrate; witness statements; stolen property reports; military police investigator's report; military police motor vehicle accident and injury report; military police alert cards; military police property custody forms; tags, and disposition of evidence letters; military police field interview cards; military police desk blotter; use of force reports; traffic violation records; driving record reports; traffic court files; citations to appear before U.S. Magistrate; criminal investigation reports; civil court cases records; minor offense report; uniform violation report; narcotics reports; polygraph examinations; letters of warning/eviction from base housing; letters of warning/barring from federal reservation; Armed Forces police reports; suspect photographic files; child abuse files; juvenile case files; valuable property receipt; vehicle impound files and vehicle towing reports; suspension of driving privileges and revocation letters assignment to absentee/deserter escort duty; informant list; Master Crime index card; evidence record file; military police log/journal; breathalyzer report; criminal investigation file; and any other such report received by military police personnel in the official execution of their duties.”

Authority for maintenance of the system:

Delete entry and replace with “10 U.S.C. 5013, Secretary of the Navy; 10 U.S.C. 5041, Headquarters, Marine Corps; and E.O. 9397 (SSN).”

* * * * *

Policies and practices for storing, retrieving, accessing, retaining, and disposing of records in the system:

Storage:

Delete entry and replace with “Paper records and electronic storage media.

* * * * *

System manager(s) and address:

Delete entry and replace with “Policy Official: Director, Naval Criminal Investigative Service, Washington Navy Yard, Building 111, 716 Sicard Street SE, Washington Navy Yard, DC 20388-5380.

Record Holder:

Organizational elements of the Department of the Navy. Official mailing addresses are published in the Standard Navy Distribution List (SNDL) that is available at http://doni.daps.dla.mil/default.aspx.”

Notification procedure:

Delete first paragraph and replace with “Individuals seeking to determine whether this system contains information about themselves should address written inquiries to the Organizational elements of the Department of the Navy.

Official mailing addresses are published in the Standard Navy Distribution List (SNDL) that is available at http://doni.daps.dla.mil/default.aspx.”

Record access procedures:

Delete first paragraph and replace with “Individuals seeking access to information about themselves should address written inquiries to the Commanding Officer or head of the activity where assigned.

Official mailing addresses are published in the Standard Navy Distribution List (SNDL) that is available at http://doni.daps.dla.mil/default.aspx.

Individuals involved in base accidents, their insurance companies and/or their attorneys can seek a routine use disclosure of information for the purpose of adjudicating a claim, such as personal injury, traffic accident, or other damage to property. The release of personal information is limited to that required to adjudicate a claim. The request should be titled “Routine Use Disclosure Request” and include the name and social security number of the individual involved and the date of the incident.”

* * * * *

Record source procedures:

Change category title to “Record source categories.”

* * * * *

NM05580-1

System name:

Security Incident System

System location:

Organizational elements of the Department of the Navy. Official mailing addresses are published in the Standard Navy Distribution List (SNDL) that is available at http://doni.daps.dla.mil/default.aspx.

Commander, U.S. Joint Forces Command, 1562 Mitscher Avenue, Suite 200, Norfolk, VA 23551-2488.

Commander, U.S. Pacific Command, P.O. Box 64028, Camp H.M. Smith, HI 96861-4028.

Categories of individuals covered by the system:

Individuals involved in or witnessing incidents requiring the attention of base, station, or activity security personnel.

Categories of records in the system:

Incident/complaint reports; data sheets that contain information on victims and perpetrators; military magistrate's records; confinement records; traffic accident and violation records; traffic court file; citations to appear before U.S. Magistrate; witness statements; stolen property reports; military police investigator's report; military police motor vehicle accident and injury report; military police alert cards; military police property custody forms; tags, and disposition of evidence letters; military police field interview cards; military police desk blotter; use of force reports; traffic violation records; driving record reports; traffic court files; citations to appear before U.S. Magistrate; criminal investigation reports; civil court cases records; minor offense report; uniform violation report; narcotics reports; polygraph examinations; letters of warning/eviction from base housing; letters of warning/barring from federal reservation; Armed Forces police reports; suspect photographic files; child abuse files; juvenile case files; valuable property receipt; vehicle impound files and vehicle towing reports; suspension of driving privileges and revocation letters assignment to absentee/deserter escort duty; informant list; Master Crime index card; evidence record file; military police log/journal; breathalyzer report; criminal investigation file; and any other such report received by military police personnel in the official execution of their duties.

Authority for maintenance of the system:

10 U.S.C. 5013, Secretary of the Navy; 10 U.S.C. 5041, Headquarters, Marine Corps; and E.O. 9397 (SSN).

Purpose(s):

To track and prosecute offenses, counsel victims, and other administrative actions; to support insurance claims and civil litigation; to revoke base, station, or activity driving privileges.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To individuals involved in base incidents, their insurance companies, and/or their attorneys for the purpose of adjudicating a claim, such as personal injury, traffic accident, or other damage to property. The release of personal information is limited to that required to adjudicate a claim.

The DoD ‘Blanket Routine Uses’ that appear at the beginning of the Navy's compilation of systems of records notices apply to this system.

Policies and practices for storing, retrieving, accessing, retaining, and disposing of records in the system:

Storage:

Paper records and electronic storage media.

Retrievability:

Name, Social Security Number, case number, and organization.

Safeguards:

Access provided on a need-to-know basis only. Manual records are maintained in file cabinets under the control of authorized personnel during working hours. The office space in which the file cabinets are located is locked outside of official working hours. Computer terminals are located in supervised areas. Access is controlled by password or other user code system.

Retention and disposal:

Maintained for two years and then destroyed.

System manager(s) and address:

Policy Official: Director, Naval Criminal Investigative Service, Washington Navy Yard, Building 111, 716 Sicard Street, SE., Washington Navy Yard, DC 20388-5380.

Record Holder:

Organizational elements of the Department of the Navy. Official mailing addresses are published in the Standard Navy Distribution List (SNDL) that is available at http://doni.daps.dla.mil/default.aspx.

Notification procedure:

Individuals seeking to determine whether this system contains information about themselves should address written inquiries to the Organizational elements of the Department of the Navy. Official mailing addresses are published in the Standard Navy Distribution List (SNDL) that is available at http://doni.daps.dla.mil/default.aspx.

Written requests should contain full name, Social Security Number, and must be signed by the individual.

Record access procedures:

Individuals seeking access to information about themselves should address written inquiries to the Commanding Officer or head of the activity where assigned. Official mailing addresses are published in the Standard Navy Distribution List (SNDL) that is available at http://doni.daps.dla.mil/default.aspx.

Individuals involved in base accidents, their insurance companies and/or attorneys can seek a routine use disclosure of information for the purpose of adjudicating a claim, such as personal injury, traffic accident, or other damage to property. The release of personal information is limited to that required to adjudicate a claim. The request should be titled “Routine Use Disclosure Request” and include the name and social security number of the individual involved and the date of the incident.

Written requests should contain full name, Social Security Number, and must be signed by the individual.

Contesting record procedures:

The Navy's rules for accessing records, and for contesting contents and appealing initial agency determinations are published in Secretary of the Navy Instruction 5211.5; 32 CFR part 701; or may be obtained from the system manager.

Record source categories:

Individual concerned, other records of the activity, investigators, witnesses, and correspondents.

Exemptions claimed for the system:

Parts of this system may be exempt pursuant to 5 U.S.C. 552a(j)(2) if the information is compiled and maintained by a component of the agency which performs as its principle function any activity pertaining to the enforcement of criminal laws.

An exemption rule for this system has been published in accordance with the requirements of 5 U.S.C. 553(b)(1), (2) and (3), (c) and (e) and published in 32 CFR part 701, subpart G. For additional information contact the system manager.

[FR Doc. E7-78 Filed 1-8-07; 8:45 am]

BILLING CODE 5001-06-P